DEPARTMENT OF TRANSPORTATION

Coast Guard

33 CFR Part 117

[CGD01-02-070]

Drawbridge Operation Regulations: Little Harbor, NH

AGENCY: Coast Guard, DOT.

ACTION: Notice of temporary deviation from regulations.

SUMMARY: The Commander, First Coast Guard District, has issued a temporary deviation from the drawbridge operation regulations for the SR1B Bridge, mile 1.0, between New Castle and Rye, New Hampshire. This deviation from the regulations, effective from July 15, 2002 through July 16, 2002, allows the bridge to remain in the closed position for vessel traffic. This temporary deviation is necessary to facilitate scheduled maintenance repairs at the bridge.

DATES: This deviation is effective from July 15, 2002 through July 16, 2002.

FOR FURTHER INFORMATION CONTACT: John McDonald, Project Officer, First Coast Guard District, at (617) 223-8364.

SUPPLEMENTARY INFORMATION: The existing drawbridge operating regulations are listed at 33 CFR 117.699.

The bridge owner, New Hampshire Department of Transportation (NHDOT), requested a temporary deviation from the drawbridge operating regulations to facilitate necessary electrical repairs at the bridge.

This deviation to the operating regulations, effective from 7 a.m. on July 15, 2002 through 3:30 p.m. on July 16, 2002, allows the SR1B Bridge to remain in the closed position for vessel traffic. There have been few requests to open this bridge in past years since this is a back channel to the Piscataqua River. Vessels may take an alternative route on the Piscataqua River to transit.

This deviation from the operating regulations is authorized under 33 CFR 117.35, and will be performed with all due speed in order to return the bridge to normal operation as soon as possible.

Dated: June 25, 2002.
V.S. Crea,
Rear Admiral, U.S. Coast Guard, Commander, First Coast Guard District.

[FR Doc. 02-17006 Filed 7-5-02; 8:45 am]

BILLING CODE 4910-15-P